ENVIRONMENTAL PROTECTION AGENCY

[OPP-2002-0071; FRL-7176-3]

Terrestrial Field Dissipation Workshop; Notice

AGENCY: Environmental Protection Agency (EPA).

ACTION: Notice.

SUMMARY: EPA and Canada's Pesticide Management Regulatory Agency (PMRA) will hold a 3-day workshop to discuss a proposed harmonized pesticide guideline for terrestrial field dissipation studies beginning on July 23, 2002, and ending on July 25, 2002. This notice announces the location and times for the workshop and sets forth the tentative agenda topics.

DATES: The workshop meetings will be held on Tuesday, July 23, 2002, and Wednesday, July 24, 2002, from 9 a.m. to 5 p.m., and Thursday, July 25, 2002, 9 a.m. to noon. The meetings on July 23 and July 25 2002, are open to the public. The meeting on July 24, 2002, is an internal meeting.

ADDRESSES: The workshop will be held at the Double Tree Hotel, Crystal City, 300 Army Navy Drive, Arlington, VA 22202. Space is limited.

FOR FURTHER INFORMATION CONTACT: Mark Corbin, Environmental Fate and Effects Division (7505C), Office of Pesticide Programs, Environmental Protection Agency, 1200 Pennsylvania Avenue, NW., Washington, DC 20460; telephone number: (703) 605-0033; fax number: (703) 305-6309; e-mail address: corbin.mark@epa.gov.

SUPPLEMENTARY INFORMATION:

I. General Information

A. Does This Action Apply to Me?

This action is directed to the public in general. This action may, however, be of interest to pesticide registrants and to all others who are involved in pesticide matters. Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document on the Home Page, select “Laws and Regulations,” “Regulations and Proposed Rules,” and then look up the entry for this document under the “Federal Register”—Environmental Documents. You can also go directly to the Federal Register listings at http://www.epa.gov/fedrgstr/. For additional information on the goals, purpose, and agenda for the terrestrial field dissipation workshop, refer to the following Web site: http://esc.syrres.com/fdw/.

2. In person. The Agency has established an administrative record for this workshop under docket control number OPP-2002-0071. The administrative record consists of the documents specifically referenced in this notice, any public comments received during an applicable comment period, and other information related to the workshop. This administrative record includes the documents that are physically located in the docket, as well as the documents that are referenced in those documents. The public version of the administrative record, which includes printed, paper versions of any period, is available for inspection in the Public Information and Records Integrity Branch (PIRIB), Rm 119, Crystal Mall #2, 1921 Jefferson Davis Hwy., Arlington, VA, from 8:30 a.m. to 4 p.m., Monday through Friday, excluding legal holidays. The PIRIB telephone number is (703) 305-5805.

C. Goals/Purpose/Agenda

The goals of the workshop include the following:

1. Resolve Science Advisory Panel issues and industry (Crop Life America/Crop Life Canada) comments on the 1998 draft harmonized guidelines/protocol.

2. Involve industry, government, academic, and other interested parties in providing feedback on and obtaining resolution of the remaining issues pertaining to the revised guidelines/protocol.

3. Finalize the harmonized guidelines/protocol.

List of Subjects

Environmental protection.

Dated: June 6, 2002.
Elizabeth Leovey,
Acting Director, Environmental Fate and Effects Division, Office of Pesticide Programs.

[FR Doc. 02-14771 Filed 6-11-02; 8:45 am]

BILLING CODE 6560-50-S